DEPARTMENT OF TRANSPORTATION

National Highway Traffic Safety Administration

49 CFR Part 571

Federal Motor Vehicle Safety Standards

CFR Correction

In Title 49 of the Code of Federal Regulations, Parts 400 to 571, revised as of October 1, 2016, on page 319, in § 571.106, standard S5.3.11 is reinstated to read as follows:

§ 571.106 Standard No. 106; Brake hoses.

* * * * *

S5. Requirements—hydraulic brake hose, brake hose assemblies, and brake hose end fittings.

* * * * *

S5.3.11 Dynamic ozone test. A hydraulic brake hose shall not show cracks visible without magnification after having been subjected to a 48-hour dynamic ozone test (S6.9).

* * * * *

[FR Doc. 2017-21085 Filed 9-28-17; 8:45 am]

BILLING CODE 1301-00-D